ARMED FORCES RETIREMENT HOME

Notice of Intent To Prepare a Supplemental Environmental Impact Statement for the Proposed Master Development Plan for the Armed Forces Retirement Home in Washington, DC

AGENCY: Armed Forces Retirement Home (AFRH).

ACTION: Notice of Intent to prepare a Supplemental Environmental Impact Statement.

SUMMARY: Pursuant to the requirements of the National Environmental Policy Act of 1969 (NEPA), AFRH plans to prepare a Supplemental Environmental Impact Statement (SEIS) for the proposed AFRH Master Development Plan in Washington, DC. The SEIS will provide new analysis based on changes to the original master development plan, and changes in governing regulations.

DATES: Effective: April 3, 2015.

FOR FURTHER INFORMATION CONTACT: Justin Seffens, Corporate Facilities Director, AFRH, at (202) 541-7549, or Tim Sheckler, Project Manager, GSA, at (202) 401-5806. The U.S. General Services Administrator (GSA) is preparing the SEIS on behalf of AFRH.

SUPPLEMENTARY INFORMATION: Pursuant to the requirements of the National Environmental Policy Act of 1969 (NEPA), 42 United States Code (U.S.C.) 4321-4347; the Council on Environmental Quality Regulations (Code of Federal Regulations (CFR), Title 40, chapter V, parts 1500-1508); and AFRH's Environmental Policy, 38 CFR part 200, AFRH plans to prepare a Supplemental Environmental Impact Statement (SEIS) for the proposed Master Plan Development at the Armed Forces Retirement Home in Washington, DC.

AFRH intends to prepare an SEIS to analyze the potential impacts resulting from the proposed changes to the original master development plan. Factors known to have changed since the previous study include construction of a new building, the Scott Building, on the AFRH campus; a $15 million restoration and expansion of the Lincoln's Cottage historic site; closure of the Heating Plant and inclusion of the Plant in the development area; the anticipated development of the McMillan Reservoir parcel immediately south of AFRH; and other area development.

Background

Established in 1851, the AFRH in Washington, DC continues its mission as a retirement community for military veterans. The 276-acre site is currently developed with 93 structures including the U.S. Soldiers' and Airmen's Home National Landmark District.

In 2002, the National Defense Authorization Act for Fiscal Year 2002 (Pub. L. 107-107, 24 U.S.C. 411, et seq.) gave the AFRH, with approval of the Secretary of Defense, authority to dispose of any property by sale, lease, or otherwise that is excess to the needs of the AFRH. In 2010, The National Defense Authorization Act for Fiscal Year 2010 (Pub. L. 111-84, 24 U.S.C. 411) modified this authority to allow the Secretary of Defense (acting on behalf of AFRH) to lease non-excess property upon such terms as the Secretary considers will promote the purpose and financial stability of the Retirement Home or be in the public interest. Proceeds from such a lease are deposited to AFRH's Trust Fund. To implement these authorities, AFRH prepared a Master Development Plan and issued a Record of Decision in 2008 for its 276-acre campus in Washington, DC to guide the long-term use and development of the site. AFRH was unable to reach agreement with the initially selected developer. AFRH now anticipates releasing a new solicitation and selecting a new development partner.

Alternatives Under Consideration

AFRH will analyze the proposed action and no action alternatives for the proposed Master Development Plan. The proposed action alternative(s) will include development of a portion of the site for office, commercial, institutional, and residential uses. As part of the EIS, AFRH will study the impacts of each alternative on the human environment.

Scoping Process

In accordance with 40 CFR 1502.9(c)(4), there will be no scoping conducted for this SEIS.

Steven G. McManus,
Chief Operating Officer, Armed Forces Retirement Home.

[FR Doc. 2015-07621 Filed 4-1-15; 8:45 am]

BILLING CODE CODE 3030-ZA-P